DEPARTMENT OF ENERGY

Federal Energy Regulatory Commission

[Docket No. RP03-83-001]

Dominion Transmission, Inc.; Notice of Tariff Filing

December 18, 2002.

Take notice that on December 13, 2002, Dominion Transmission, Inc. (DTI) tendered for filing as part of its FERC Gas Tariff, Third Revised Volume No. 1, the following tariff sheet as a correction to its November 21, 2002, filing in which a typographical error occurred and incorrectly listed the GRI Adjustment:

Substitute Nineteenth Revised Sheet No. 32

DTI states that copies of its letter of transmittal and enclosures have been served upon DTI's customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Intervention Date: December 26, 2002.

Linwood A. Watson, Jr.,
Deputy Secretary.

[FR Doc. 02-32493 Filed 12-23-02; 8:45 am]

BILLING CODE 6717-01-P